DEPARTMENT OF AGRICULTURE

Rural Housing Service

Notice of Funds Availability for the Section 533 Housing Preservation Grants for Fiscal Year 2009

Announcement Type: Initial Notice inviting applications from qualified applicants for Fiscal Year 2009.

Catalog of Federal Domestic Assistance Numbers (CFDA): 10.433.

SUMMARY: The Rural Housing Service (RHS), an agency within Rural Development, announces that it is soliciting competitive applications under its Housing Preservation Grant (HPG) program. The HPG program is a grant program which provides qualified public agencies, private non-profit organizations, which may include, but not be limited to, faith-based and community organizations, and other eligible entities grant funds to assist very low- and low-income homeowners in repairing and rehabilitating their homes in rural areas. In addition, the HPG program assists rental property owners and cooperative housing complexes in repairing and rehabilitating their units if they agree to make such units available to low- and very low-income persons. This action is taken to comply with Agency regulations found in 7 CFR part 1944, subpart N, which require the Agency to announce the opening and closing dates for receipt of preapplications for HPG funds from eligible applicants. The intended effect of this Notice is to provide eligible organizations notice of these dates.

DATES: The closing deadline for receipt of all applications in response to this Notice is 5 p.m., local time for each Rural Development State Office on July 10, 2009. The application closing deadline is firm as to date and hour. RHS will not consider any application that is received after the closing deadline. Applicants intending to mail applications must provide sufficient time to permit delivery on or before the closing deadline date and time. Acceptance by the United States Postal Service or private mailer does not constitute delivery. Facsimile (FAX) and postage due applications will not be accepted.

SUPPLEMENTARY INFORMATION:

Paperwork Reduction Act

The reporting requirements contained in this Notice have been approved by the Office of Management and Budget under Control Number 0575-0115.

Program Administration

I. Funding Opportunities Description

The funding instrument for the HPG Program will be a grant agreement. The term of the grant can vary from 1 to 2 years, depending on available funds and demand. No maximum or minimum grant levels have been established at the National level. You should contact the Rural Development State Office to determine the allocation.

II. Award Information

For Fiscal Year 2009, $10,088,166.45 is available for the HPG Program. The total includes $688,166.45 in carryover funds. A set-aside of $600,000 has been established for grants located in Empowerment Zones, Enterprise Communities, and Rural Economic Area Partnership Zones and other funds will be distributed under a formula allocation to states pursuant to 7 CFR part 1940, subpart L, “Methodology and Formulas for Allocation of Loan and Grant Program Funds.” Decisions on funding will be based on pre-applications.

III. Eligibility Information

7 CFR part 1944, subpart N provides details on what information must be contained in the preapplication package. Entities wishing to apply for assistance should contact the Rural Development State Office to receive further information, the State allocation of funds, and copies of the preapplication package. Eligible entities for these competitively awarded grants include state and local governments, non-profit corporations, which may include, but not be limited to faith-based and community organizations, federally recognized Indian tribes, and consortia of eligible entities.

Federally recognized Indian tribes, pursuant to 7 CFR 1944.674, are exempt from the requirement to consult with local leaders including announcing the availability of its statement of activities for review in a newspaper.

As part of the application, all applicants must also provide a Dun and Bradstreet Data Universal Numbering System (DUNS) number. As required by the Office of Management and Budget (OMB), all grant applicants must provide a DUNS number when applying for Federal grants, on or after October 1, 2003. Organizations can receive a DUNS number at no cost by calling the dedicated toll-free DUNS number request line at 1-866-705-5711. Additional information concerning this requirement is provided in a policy directive issued by OMB and published in the Federal Register on June 27, 2003 (68 FR 38402-38405).

To comply with the President's Management Agenda, the Department of Agriculture is participating as a partner in the new Government-wide Grants.gov site in FY 2009. Housing Preservation Grants [Catalog of Federal Domestic Assistance #10.433] is one of the programs included at this Web site. You may access the electronic grant application for Housing Preservation Grants at: http://www.grants.gov. If you are an applicant under the Housing Preservation Grant Program, you may submit your application to the Agency in either electronic or paper format. Please be mindful that the application deadline for electronic format differs from the deadline for paper format. The electronic format deadline will be based on Eastern Standard Time. The paper format deadline is local time for each Rural Development State Office.

Users of Grants.gov will be able to download a copy of the application package, complete it off line, and then upload and submit the application via the Grants.gov site. You may not e-mail an electronic copy of a grant application to USDA Rural Development; however, the Agency encourages your participation in Grants.gov.

The following are useful tips and instructions on how to use the Web site:

• When you enter the Grants.gov site, you will find information about submitting an application electronically through the site as well as the hours of operation. USDA Rural Development strongly recommends that you do not wait until the application deadline date to begin the application process through Grants.gov. To use Grants.gov, applicants must have a DUNS number.

• You may submit all documents electronically through the Web site, including all information typically included on the Application for Rural Housing Preservation Grants, and all necessary assurances and certifications.

• Your application must comply with any page limit requirements described in this Notice.

• After you electronically submit your application through the Web site, you will receive an automatic acknowledgement from Grants.gov that contains a Grants.gov tracking number.

• RHS may request that you provide original signatures on forms at a later date.

• If you experience technical difficulties on the closing date and are unable to meet the 5 p.m. (Eastern Standard Time) deadline, print out your application and submit it to your State Office, you must meet the closing date and local time deadline.

• Please note that you must locate the downloadable application package for this program by the CFDA Number or FedGrants Funding Opportunity Number, which can be found at http://www.fedgrants.gov.

IV. Application and Submission Information

Applicants wishing to apply for assistance must make its statement of activities available to the public for comment. The applicant(s) must announce the availability of its statement of activities for review in a newspaper of general circulation in the project area and allow at least 15 days for public comment. The start of this 15-day period must occur no later than 16 days prior to the last day for acceptance of pre-applications by USDA Rural Development.

Applicants must also contact the Rural Development State Office serving the place in which they desire to submit an application to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office, Suite 601, Sterling Centre, 4121 Carmichael Road, Montgomery, Alabama 36106-3683, (334) 279-3454, TDD (334) 279-3495.

Anne Chavers, Alaska State Office, 800 West Evergreen, Suite 201, Palmer, Alaska 99645, (907) 761-7740, TDD (907) 761-8905.

Debbie I. Davis, Arizona State Office, Phoenix Courthouse and Federal Building, 230 North First Avenue, Suite 206, Phoenix, Arizona 85003-1706, (602) 280-8768, TDD (602) 280-8706.

Carol Torres, Arkansas State Office, 700 West Capitol Avenue, Room 3416, Little Rock, Arkansas 72201-3225, (501) 301-3258, TDD (501) 301-3063.

Clinton King, California State Office, >430 G Street, #4169, Davis, California 95616-4169, (530) 792-5821, TDD (530) 792-5848.

Debra Moretton, Colorado State Office, 655 Parfet Street, Room E100, Lakewood, Colorado 80215, (720) 544-2923, TDD (800) 659-2656.

Mary Summerfield, Connecticut, Served by Massachusetts State Office.

Delaware and Maryland State Office, 1221 College Park Drive, Suite 200, Dover, Delaware 19904, (302) 857-3615, TDD (302) 857-3585.

Pat Baker, Florida & Virgin Islands State Office, 4440 N.W. 25th Place, Gainesville, Florida 32606-6563, (352) 338-3465, TDD (352) 338-3499.

Elizabeth M. Whitaker, Georgia State Office, Stephens Federal Building, 355 East Hancock Avenue, Athens, Georgia 30601-2768, (706) 546-2164, TDD (706) 546-2034.

Dawn Pilgrim, Hawaii State Office, (Services all Hawaii, American Samoa, Guam, and Western Pacific), Room 311, Federal Building, 154 Waianuenue Avenue, Hilo, Hawaii 96720, (808) 933-8300, TDD (808) 933-8321.

Gayle Kuheana, Idaho State Office, Suite A1, 9173 West Barnes Drive, Boise, Idaho 83709, (208) 378-5628, TDD (208) 378-5644.

Joyce Weinzetl, Illinois State Office, 2118 West Park Court, Suite A, Champaign, Illinois 61821-2986, (217) 403-6222, TDD (217) 403-6240.

Barry L. Ramsey, Indiana State Office, 5975 Lakeside Boulevard, Indianapolis, Indiana 46278, (317) 290-3100 (ext. 426), TDD (317) 290-3343.

Mary Hawthorne, Iowa State Office, 210 Walnut Street Room 873, Des Moines, Iowa 50309, (515) 284-4666, TDD (515) 284-4858.

Mary Beth Juergens, Kansas State Office, 1303 SW First American Place, Suite 100, Topeka, Kansas 66604-4040, (785) 271-2700, TDD (785) 271-2767.

Mike Resnik, Kentucky State Office, 771 Corporate Drive, Suite 200, Lexington, Kentucky 40503, (859) 224-7325, TDD (859) 224-7422.

Beth Moore, Louisiana State Office, 3727 Government Street, Alexandria, Louisiana 71302, (318) 473-7962, TDD (318) 473-7655.

Yvonne R. Emerson, Maine State Office, Post Office Box 405, Bangor, Maine 04402-0405, (207) 990-9110, TDD (207) 942-7331.

Bob Nadeau, Maryland, Served by Delaware State Office.

Massachusetts, Connecticut, & Rhode Island State Office, 451 West Street Suite 2, Amherst, Massachusetts 01002, (413) 253-4315, TDD (413) 253-4590.

Paul Geoffroy, Michigan State Office, 3001 Coolidge Road, Suite 200, East Lansing, Michigan 48823, (517) 324-5192, TDD (517) 337-6795.

Kelly Darland, Minnesota State Office, 375 Jackson Street Building, Suite 410, St. Paul, Minnesota 55125, (651) 602-7804, TDD (651) 602-7830.

Thomas Osborne, Mississippi State Office, Federal Building, Suite 831, 100 West Capitol Street, Jackson, Mississippi 39269, (601) 965-4325, TDD (601) 965-5850.

Darnella Smith-Murray, Missouri State Office, 601 Business Loop 70 West, Parkade Center, Suite 235, Columbia, Missouri 65203, (573) 876-9303, TDD (573) 876-9480.

Becky Eftink, Montana State Office, 900 Technology Boulevard, Suite B, Bozeman, Montana 59771, (406) 585-2515, TDD (406) 585-2562.

Deborah Chorlton, Nebraska State Office, Federal Building, Room 152, 100 Centennial Mall N, Lincoln, Nebraska 68508, (402) 437-5557, TDD (402) 437-5093.

Lanae Brasch, Nevada State Office, 1390 South Curry Street, Carson City, Nevada 89703-9910, (775) 887-1222 (ext. 14), TDD (775) 885-0633.

Mona Sargent, New Hampshire State Office, Concord Center, Suite 218, Box 317, 10 Ferry Street, Concord, New Hampshire 03301-5004, (603) 223-6046, TDD (603) 229-0536.

Sandra Hawkins, New Jersey State Office, 5th Floor North, Suite 500, 8000 Midlantic Drive, Mt. Laurel, New Jersey 08054, (856) 787-7773, TDD (856) 787-7784.

Derrick S. Waltz, New Mexico State Office, 6200 Jefferson Street, NE, Room 255, Albuquerque, New Mexico 87109, (505) 761-4944, TDD (505) 761-4938.

Susan Ellzey, New York State Office, The Galleries of Syracuse, 441 South Salina Street, Suite 357 5th Floor, Syracuse, New York 13202, (315) 477-6453, TDD (315) 477-6447.

Kathryn Boerner, North Carolina State Office, 4405 Bland Road, Suite 260, Raleigh, North Carolina 27609, (919) 873-2062, TDD (919) 873-2003.

Rebecca Dillard, North Dakota State Office, Federal Building, Room 208, Post Office Box 1737, Bismarck, North Dakota 58502, (701) 530-2046, TDD (701) 530-2113.

Barry Borstad, Ohio State Office, Federal Building, Room 507, 200 North High Street, Columbus, Ohio 43215-2477, (614) 255-2409, TDD (614) 255-2554.

Cathy Simmons, Oklahoma State Office, 100 USDA, Suite 108, Stillwater, Oklahoma 74074-2654, (405) 742-1076, TDD (405) 742-1007.

Tim Henderson, Oregon State Office, 1201 NE Lloyd Boulevard, Suite 801, Portland, Oregon 97232-1274, (503) 414-3340, TDD (503)414-3387.

Barb Brandon

Pennsylvania State Office, One Credit Union Place, Suite 330, Harrisburg, Pennsylvania 17110-2996, (717) 237-2282, TDD (717) 237-2261, Martha E. Hanson.

Puerto Rico State Office, IBM Building, Suite 601, Munoz Rivera Ave., #654, San Juan, Puerto Rico 00918, (787) 766-5095 (ext. 256), TDD (787) 766-5332, Jan Vargas.

Rhode Island, Served by Massachusetts State Office.

South Carolina State Office, Strom Thurmond Federal Building, 1835 Assembly Street, Room 1007, Columbia, South Carolina 29201, (803) 765-5870, TDD (803) 765-5697, Lila Moses.

South Dakota State Office, Federal Building, Room 210, 200 Fourth Street, SW., Huron, South Dakota 57350, (605) 352-1132, TDD (605) 352-1147, Roger Hazuka or Pam Reilly.

Tennessee State Office, Suite 300, 3322 West End Avenue, Nashville, Tennessee 37203-1084, (615) 783-1300, TDD (615) 783-1397, Abby Boggs.

Texas State Office, Federal Building, Suite 102, 101 South Main, Temple, Texas 76501, (254) 742-9769, TDD (254) 742-9712, Olivia Pinon.

Utah State Office, Wallace F. Bennett Federal Building, 125 South State Street, Room 4311, Salt Lake City, Utah 84138, (801) 524-4308, TDD (801) 524-3309, Janice Kocher.

Vermont State Office, City Center, 3rd Floor, 89 Main Street, Montpelier, Vermont 05602, (802) 828-6021, TDD (802) 223-6365, Heidi Setien.

Virgin Islands, Served by Florida State Office.

Virginia State Office, Culpeper Building, Suite 238, 1606 Santa Rosa Road, Richmond, Virginia 23229, (804) 287-1596, TDD (804) 287-1753, CJ Michels.

Washington State Office, 1835 Black Lake Boulevard, Suite B, Olympia, Washington 98512, (360) 704-7706, TDD (360) 704-7760, Bill Kirkwood.

Western Pacific Territories, Served by Hawaii State Office.

West Virginia, Parkersburg West Virginia County Office, 91 Boyles Lane, Parkersburg, West Virginia 26104, (304) 422-9070, TDD (304) 284-4836, Penny Thaxton.

Wisconsin State Office, 4949 Kirschling Court, Stevens Point, Wisconsin 54481, (715) 345-7608 (ext.111), TDD (715) 345-7614, Sara Kendall.

Wyoming State Office, Post Office Box 82601, Casper, Wyoming 82602-5006, (307) 233-6716, TDD (307) 233-6733, Alan Brooks.

FOR FURTHER INFORMATION CONTACT: For general information, applicants may contact Bonnie Edwards-Jackson, Finance and Loan Analyst, Multi-Family Housing Preservation and Direct Loan Division, USDA Rural Development, Stop 0781, 1400 Independence Avenue, SW., Washington, DC 20250-0781, telephone (202) 690-0759 (voice) (this is not a toll free number) or (800) 877-8339 (TDD-Federal Information Relay Service) or via e-mail at, Bonnie.Edwards@wdc.usda.gov.

V. Application Review Information

All applications for Section 533 funds must be filed with the appropriate Rural Development State Office and must meet the requirements of this Notice and 7 CFR part 1944, subpart N. Pre-applications determined not eligible and/or not meeting the selection criteria will be notified by the Rural Development State Office.

All applicants will file an original and two copies of Standard Form (SF) 424, ”Application for Federal Assistance,” and supporting information with the appropriate Rural Development State Office. A pre-application package, including SF-424, is available in any Rural Development State Office. All preapplications shall be accompanied by the following information which Rural Development will use to determine the applicant's eligibility to undertake the HPG program and to evaluate the preapplication under the project selection criteria of § 1944.679 of 7 CFR part 1944, subpart N.

(a) A statement of activities proposed by the applicant for its HPG program as appropriate to the type of assistance the applicant is proposing, including:

(1) A complete discussion of the type of and conditions for financial assistance for housing preservation, including whether the request for assistance is for a homeowner assistance program, a rental property assistance program, or a cooperative assistance program;

(2) The process for selecting recipients for HPG assistance, determining housing preservation needs of the dwelling, performing the necessary work, and monitoring/inspecting work performed;

(3) A description of the process for identifying potential environmental impacts in accordance with § 1944.672 of 7 CFR part 1944, subpart N, and the provisions for compliance with Stipulation I, A-G of the Programmatic Memorandum of Agreement, also known as PMOA, (RD Instruction 2000-FF, available in any Rural Development State Office) in accordance with § 1944.673(b) of 7 CFR part 1944, subpart N;

(4) The development standard(s) the applicant will use for the housing preservation work; and, if not the Rural Development standards for existing dwellings, the evidence of its acceptance by the jurisdiction where the grant will be implemented;

(5) The time schedule for completing the program;

(6) The staffing required to complete the program;

(7) The estimated number of very low- and low-income minority and nonminority persons the grantee will assist with HPG funds; and, if a rental property or cooperative assistance program, the number of units and the term of restrictive covenants on their use for very low- and low-income;

(8) The geographical area(s) to be served by the HPG program;

(9) The annual estimated budget for the program period based on the financial needs to accomplish the objectives outlined in the proposal. The budget should include proposed direct and indirect administrative costs, such as personnel, fringe benefits, travel, equipment, supplies, contracts, and other cost categories, detailing those costs for which the grantee proposes to use the HPG grant separately from non-HPG resources, if any. The applicant budget should also include a schedule (with amounts) of how the applicant proposes to draw HPG grant funds, i.e., monthly, quarterly, lump sum for program activities, etc.;

(10) A copy of a indirect cost proposal as required in 7 CFR parts 3015, 3016, and 3019, when the applicant has another source of federal funding in addition to the Rural Development HPG program;

(11) A brief description of the accounting system to be used;

(l2) The method of evaluation to be used by the applicant to determine the effectiveness of its program which encompasses the requirements for quarterly reports to Rural Development in accordance with § 1944.683(b) of 7 CFR part 1944, subpart N and the monitoring plan for rental properties and cooperatives (when applicable) according to § 1944.689 of 7 CFR part 1944, subpart N;

(13) The source and estimated amount of other financial resources to be obtained and used by the applicant for both HPG activities and housing development and/or supporting activities;

(14) The use of program income, if any, and the tracking system used for monitoring same;

(15) The applicant's plan for disposition of any security instruments held by them as a result of its HPG activities in the event of its loss of legal status;

(16) Any other information necessary to explain the proposed HPG program; and

(17) The outreach efforts outlined in § 1944.671(b) of 7 CFR part 1944, subpart N.

(b) Complete information about the applicant's experience and capacity to carry out the objectives of the proposed HPG program.

(c) Evidence of the applicant's legal existence, including, in the case of a private non-profit organization, which may include, but not be limited to, faith-based and community organizations, a copy of, or an accurate reference to, the specific provisions of State law under which the applicant is organized; a certified copy of the applicant's Articles of Incorporation and Bylaws or other evidence of corporate existence; certificate of incorporation for other than public bodies; evidence of good standing from the State when the corporation has been in existence 1 year or more; and the names and addresses of the applicant's members, directors and officers. If other organizations are members of the applicant-organization, or the applicant is a consortium, pre-applications should be accompanied by the names, addresses, and principal purpose of the other organizations. If the applicant is a consortium, documentation showing compliance with paragraph (4)(ii) under the definition of “organization” in § 1944.656 of 7 CFR part 1944, subpart N must also be included.

(d) For a private non-profit entity, which may include, but not be limited to, faith-based and community organizations, the most recent audited statement and a current financial statement dated and signed by an authorized officer of the entity showing the amounts and specific nature of assets and liabilities together with information on the repayment schedule and status of any debt(s) owed by the applicant.

(e) A brief narrative statement which includes information about the area to be served and the need for improved housing (including both percentage and the actual number of both low-income and low-income minority households and substandard housing), the need for the type of housing preservation assistance being proposed, the anticipated use of HPG resources for historic properties, the method of evaluation to be used by the applicant in determining the effectiveness of its efforts.

(f) Applicant must submit an original and one copy of Form RD 1940-20, “Request for Environmental Information,” prepared in accordance with Exhibit F-1 of RD Instruction 1944-N (available in any Rural Development State Office).

(g) Applicant must also submit a description of its process for:

(1) Identifying and rehabilitating properties listed on or eligible for listing on the National Register of Historic Places;

(2) Identifying properties that are located in a floodplain or wetland;

(3) Identifying properties located within the Coastal Barrier Resources System; and

(4) Coordinating with other public and private organizations and programs that provide assistance in the rehabilitation of historic properties (Stipulation I, D, of the PMOA, RD Instruction 2000-FF, available in any Rural Development State Office).

(h) The applicant must also submit evidence of the State Historic Preservation Office's, also known as SHPO, concurrence in the proposal, or in the event of nonconcurrence, a copy of SHPO's comments together with evidence that the applicant has received the Advisory Council on Historic Preservation's advice as to how the disagreement might be resolved, and a copy of any advice provided by the Council.

(i) The applicant must submit written statements and related correspondence reflecting compliance with § 1944.674(a) and (c) of 7 CFR part 1944, subpart N regarding consultation with local government leaders in the preparation of its program and the consultation with local and state government pursuant to the provisions of Executive Order 12372.

(j) The applicant is to make its statement of activities available to the public for comment prior to submission to Rural Development pursuant to § 1944.674(b) of 7 CFR part 1944, subpart N. The application must contain a description of how the comments (if any were received) were addressed.

(k) The applicant must submit an original and one copy of Form RD 400-1, “Equal Opportunity Agreement,” and Form RD 400-4, “Assurance Agreement,” in accordance with § 1944.676 of 7 CFR part 1944, subpart N.

Applicants should review 7 CFR part 1944, subpart N for a comprehensive list of all application requirements.

VI. Selection Criteria

The Rural Development State Offices will utilize the following project selection criteria for applicants in accordance with § 1944.679 of 7 CFR part 1944, subpart N:

(a) Providing a financially feasible program of housing preservation assistance. “Financially feasible” is defined as proposed assistance which will be affordable to the intended recipient or result in affordable housing for very low- and low-income persons.

(b) Serving eligible rural areas with a concentration of substandard housing for households with very low- and low-income.

(c) Being an eligible applicant as defined in § 1944.658 of 7 CFR part 1944, subpart N.

(d) Meeting the requirements of consultation and public comment in accordance with § 1944.674 of 7 CFR part 1944, subpart N.

(e) Submitting a complete preapplication as outlined in § 1944.676 of 7 CFR part 1944, subpart N.

For applicants meeting all of the requirements listed above, the Rural Development State Offices will use weighted criteria in accordance with 7 CFR part 1944, subpart N as selection for the grant recipients. Each preapplication and its accompanying statement of activities will be evaluated and, based solely on the information contained in the preapplication, the applicant's proposal will be numerically rated on each criteria within the range provided. The highest-ranking applicant(s) will be selected based on allocation of funds available to the state.

(a) Points are awarded based on the percentage of very low-income persons that the applicant proposes to assist, using the following scale:

(1) More than 80%: 20 points

(2) 61% to 80%: 15 points

(3) 41% to 60%: 10 points

(4) 20% to 40%: 5 points

(5) Less than 20%: 0 points

(b) The applicant's proposal may be expected to result in the following percentage of HPG fund use (excluding administrative costs) to total cost of unit preservation. This percentage reflects maximum repair or rehabilitation with the least possible HPG funds due to leveraging, innovative financial assistance, owner's contribution or other specified approaches. Points are awarded based on the following percentage of HPG funds (excluding administrative costs) to total funds:

(1) 50% or less: 20 points

(2) 51% to 65%: 15 points

(3) 66% to 80%: 10 points

(4) 81% to 95%: 5 points

(5) 96% to 100%: 0 points

(c) The applicant has demonstrated its administrative capacity in assisting very low- and low-income persons to obtain adequate housing based on the following:

(1) The organization or a member of its staff has at least one or more years experience successfully managing and operating a rehabilitation or weatherization type program: 10 points.

(2) The organization or a member of its staff has at least one or more years experience successfully managing and operating a program assisting very low- and low-income persons obtain housing assistance: 10 points.

(3) If the organization has administered grant programs, there are no outstanding or unresolved audit or investigative findings which might impair carrying out the proposal: 10 points.

(d) The proposed program will be undertaken entirely in rural areas outside Metropolitan Statistical Areas, also known as MSAs, identified by Rural Development as having populations below 10,000 or in remote parts of other rural areas (i.e., rural areas contained in MSAs with less than 5,000 population) as defined in § 1944.656 of 7 CFR part 1944, subpart N: 10 points.

(e) The program will use less than 20 percent of HPG funds for administration purposes:

(1) More than 20%: Not eligible

(2) 20%: 0 points

(3) 19%: 1 point

(4) 18%: 2 points

(5) 17%: 3 points

(6) 16%: 4 points

(7) 15% or less: 5 points

(f) The proposed program contains a component for alleviating overcrowding as defined in § 1944.656 of 7 CFR part 1944, subpart N: 5 points.

(g) The proposal contains a component for improving the energy efficiency of units rehabilitated. Points will be awarded based on the percentage cost related to energy efficiency to total cost of unit preservation (excluding administrative costs). Energy efficiency items include ENERGY STAR compliance, more efficient heating, ventilation and air conditioning (HVAC) equipment, more efficient windows, additional attic insulation, and using green renewable materials.

(1) 25 to 100%: 20 points

(2) 15 to 25%: 10 points

(3) 10 to 15%: 5 points

(h) Applicants requesting grants to be used to repair and or rehabilitate Section 515 Rural Rental Housing: 5 points.

In the event more than one preapplication receives the same amount of points, those preapplications will then be ranked based on the actual percentage figure used for determining the points. Further, in the event that preapplications are still tied, then those preapplications still tied will be ranked based on the percentage for HPG fund use (low to high). Further, for applications where assistance to rental properties or cooperatives is proposed, those still tied will be further ranked based on the number of years the units are available for occupancy under the program (a minimum of 5 years is required). For this part, ranking will be based from most to least number of years.

Finally, if there is still a tie, then a lottery system will be used.

VII. Non-Discrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), (202) 720-6382 (TDD). “USDA is an equal opportunity provider, employer, and lender.”

Dated: May 1, 2009.
James C. Alsop,
Acting Administrator, Rural Housing Service.

[FR Doc. E9-10645 Filed 5-8-09; 8:45 am]

BILLING CODE 3410-XV-P